DEPARTMENT OF TRANSPORTATION

Office of the Secretary

Aviation Proceedings, Agreements Filed During Week Ending August 17, 2001

The following Agreements were filed with the Department of Transportation under provisions of 49 U.S.C. Sections 412 and 414. Answers may be filed within 21 days after the filing of the applications.

Docket Number: OST-2001-10401.

Date Filed: August 14, 2001.

Parties: Members of the International Air Transport Association.

Subject:

PTC2 EUR-ME 0114 dated 13 July 2001

TC2 Europe-Middle East Resolutions r1-r29

PTC2 EUR-ME 0115 dated 24 July 2001

Technical Correction to PTC2 EUR-ME 0114 dated 13 July 2001

MINUTES—PTC2 EUR-ME 0116 dated 14 August 2001

TABLES—PTC2 EUR-ME Fares 0053 dated 24 July 2001

Intended effective date: 1 January 2002.

Dorothy Y. Beard,
Federal Register Liaison.

[FR Doc. 01-22537 Filed 9-6-01; 8:45 am]

BILLING CODE 4910-62-P